SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 12, 2004.

ADDRESSES: Send all comments regarding whether these information collections are necessary for the proper performance of the function of the agency, whether the burden estimates are accurate, and if there are ways to minimize the estimated burden and enhance the quality of the collections, to Carol Fendler, Director, Office of Licensing and Program Standards, Small Business Administration, 409 3rd Street SW., Suite 6300, Washington, DC 20416

FOR FURTHER INFORMATION CONTACT: Carol Fendler, Director, 202-205-7559 or Curtis B. Rich, Management Analyst, 202-205-7030.

SUPPLEMENTARY INFORMATION: Title: “Size Status Declaration.”

Description of Respondents: Small Businesses Requesting Size Determinations.

Form No.: 480.

Annual Responses: 4,200.

Annual Burden: 700.

Title: “SBIC Financial Reports.”

Description of Respondents: Small Business Investment Companies.

Form No.: 468.

Annual Responses: 1,040.

Annual Burden: 16,480.

Title: “Portfolio Financing Reports.”

Description of Respondents: Small Business Investment Companies.

Form No.: 1031.

Annual Responses: 2,100.

Annual Burden: 420.

Title: “Stockholder's Confirmation (Corporation); Ownership Confirmation (Partnership).”

Description of Respondents: Newly Licensed SBIC's.

Form No.: 1405.

Annual Responses: 600.

Annual Burden: 600.

Title: “Financing Eligibility Statement—social disadvantaged Economic Disadvantaged.”

Description of Respondents: Small Businesses seeking financing from Specialized Small Business Investment Companies (SSBIC).

Form Nos.: 1941A, 1941B, 1941C.

Annual Responses: 293.

Annual Burden: 586.

ADDRESSES: Send all comments regarding whether this information collection is necessary for the proper performance of the function of the agency, whether the burden estimates are accurate, and if there are ways to minimize the estimated burden and enhance the quality of the collection, to Cheryl Fletcher, Business Opportunity Specialist, Office of Business Development, Small Business Administration, 409 3rd Street SW., Suite 8800, Washington, DC 20416

FOR FURTHER INFORMATION CONTACT: Cheryl Fletcher, Business Opportunity Specialist, 202-619-1850 or Curtis B. Rich, Management Analyst, 202-205-7030.

SUPPLEMENTARY INFORMATION: Title: “8(a) SDB Paper and Electronic Application.”

Description: 8(a) Companies.

Form Nos.: 1010, 1010B, 1010C, 2065.

Annual Responses: 6,103.

Annual Burden: 28,821.

Jacqueline White,
Chief, Administrative Information Branch.

[FR Doc. 04-3018 Filed 2-11-04; 8:45 am]

BILLING CODE 8025-01-P